ENVIRONMENTAL PROTECTION AGENCY

40 CFR Part 271

[FRL-7574-9]

West Virginia: Final Authorization of State Hazardous Waste Management Program Revision

AGENCY: Environmental Protection Agency (EPA).

ACTION: Proposed rule.

SUMMARY: West Virginia has applied to EPA for final authorization of the changes to its hazardous waste program under the Resource Conservation and Recovery Act (RCRA). EPA proposes to grant final authorization to West Virginia. In the “Rules and Regulations” section of this Federal Register, EPA is authorizing the changes by an immediate final rule. EPA did not make a proposal prior to the immediate final rule because we believe this action is not controversial and do not expect comments that oppose it. We have explained the reasons for this authorization in the preamble to the immediate final rule. Unless we receive written comments which oppose this authorization during the comment period, the immediate final rule will become effective on the date it establishes, and we will not take further action on this proposal. However, if we receive comments that oppose this action, or portions thereof, we will withdraw the relevant portions of the immediate final rule, and they will not take effect. We will then respond to public comments in a later final rule based on this proposal. You may not have another opportunity for comment. If you want to comment on this action, you must do so at this time.

DATES: Send your written comments by November 14, 2003.

ADDRESSES: Send written comments to Lillie Ellerbe, Mailcode 3WC21, RCRA State programs Branch, U.S. EPA Region III, 1650 Arch Street, Philadelphia, PA 19103, Phone number: (215) 814-5454. Comments may also be submitted electronically to ellerbe.lillie@epa.gov, or by facsimile at (215) 814-3163. Comments in electronic format should identify this specific notice. You may inspect and copy West Virginia's's application from 8 a.m. to 4:30 p.m. at the following locations: West Virginia Department of Environmental Protection, Division of Water and Waste Management, 1356 Hansford Street, Charleston, WV 25301-1401, Phone number: (304) 558-4253, attn: Carroll Cather or EPA Region III, Library, 2nd Floor, 1650 Arch Street, Philadelphia, PA 19103-2029, Phone Number: (215) 814-5254.

FOR FURTHER INFORMATION CONTACT: Lillie Ellerbe, Mailcode 3WC21, RCRA State Programs Branch, U.S. EPA Region III, 1650 Arch Street, Philadelphia, PA 19103, Phone Number: (215) 814-5454.

SUPPLEMENTARY INFORMATION: For additional information, please see the immediate final rule published in the “Rules and Regulations” section of this Federal Register.

Dated: October 7, 2003.
Donald S. Welsh,
Regional Administrator, EPA Region III.

[FR Doc. 03-26048 Filed 10-15-03; 8:45 am]

BILLING CODE 6560-50-M